OFFICE OF PERSONNEL MANAGEMENT

[OMB Control No. 3206-0190; Form RI 92-19]

Submission for OMB Review; Request for Comments on an Extension, Without Change, of a Currently Approved Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for comments on an extension, without change, of a currently approved information collection. This information collection, “Application for Deferred or Postponed Retirement: Federal Employees Retirement System (FERS)” (OMB Control No. 3206-0190; Form RI 92-19), is used by separated employees to apply for either a deferred or a postponed FERS annuity benefit.

Approximately 1,964 forms are completed annually. We estimate it takes approximately 60 minutes to complete the form. The annual estimated burden is 1,964 hours.

For copies of this proposal, contact Cyrus S. Benson on (202) 606-4808, FAX (202) 606-0910 or via E-mail to Cyrus.Benson@opm.gov. Please include a mailing address with your request.

DATES: Comments on this proposal should be received within 30 calendar days from the date of this publication.

ADDRESSES: Send or deliver comments to—

Linda Bradford (Acting), Deputy Associate Director, Retirement Operations, Retirement Services, U.S. Office of Personnel Management, 1900 E Street, NW., Room 3305, Washington, DC 20415-3500; and

OPM Desk Officer, Office of Information & Regulatory Affairs, Office of Management and Budget, New Executive Office Building, 725 17th Street, NW., Room 10235, Washington, DC 20503.

For information regarding administrative coordination contact: Cyrus S. Benson, Team Leader, Publications Team, RS/RM/Administrative Services, U.S. Office of Personnel Management, 1900 E Street, NW.—Room 4332, Washington, DC 20415. (202) 606-4808.

John Berry,
Director, U.S. Office of Personnel Management.

[FR Doc. 2011-3838 Filed 2-18-11; 8:45 am]

BILLING CODE 6325-38-P